NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 6, 2023 . This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671, as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-001

1. Applicant: Ron Naveen, Oceanites, Inc., P.O. Box 15259, Chevy Chase, MD 20825

Activity for Which Permit Is Requested

Take, Harmful Interference, Enter Antarctic Specially Protected Areas. The applicant proposes to continue data collections activities conducted to support the Antarctic Site Inventory which, since, 1994, has been censusing/surveying visitor sites and penguin/seabird breeding locations in the Antarctic Peninsula. Visitor site surveys may include censusing penguin and seabird colonies throughout the Antarctic Peninsula. There is the potential for slight disturbance of the birds during surveying and censusing. This permit would address the potential for infrequent, minimal take or harmful interference of the following species: Adelie penguin (Pygoselis adeliae), chinstrap penguin (P. antarctica), gentoo penguin, (P. papua), southern giant petrel (Macronectes giganteus), southern fulmar (Fulmarus glacialoides), cape petrel (Daption capense), Antarctic blue-eyed shag (Phalacrocorax atriceps), Antarctic brown skua (Catharacta antarctica), south polar skua (C. maccormicki), kelp gull (Larus dominicanus), and Antarctic tern (Sterna vittata). While conducting visitor site surveys and censuses, the applicant would potentially enter a number of Antarctic Specially Protected Areas (ASPAs) in the Antarctic Peninsula region.

Location

Antarctica Peninsula Region, including ASPA 107, Emperor Island, Dion Islands, Marguerite Bay, Antarctic Peninsula; ASPA 108, Green Island, Berthelot Islands, Antarctic Peninsula; ASPA 109, Moe Island, South Orkney Islands; APSA 110, Lynch Island, South Orkney Islands; ASPA 111, Southern Powell Island and adjacent islands, South Orkney Islands; ASPA 112, Coppermine Peninsula, Robert Island, South Shetland Islands; ASPA 113, Litchfield Island, Arthur Harbor, Anvers Island, Palmer Archipelago; ASPA 115, Lagotellerie Island, Marguerite Bay, Graham Land; ASPA 117, Avian Island, Marguerite Bay, Antarctic Peninsula; ASPA 125, Fildes Peninsula, King George Island (25 de Mayo); ASPA 126, Byers Peninsula, Livingston Island, South Shetland Islands; ASPA 128, Western shore of Admiralty Bay, King George Island, South Shetland Islands; ASPA 129, Rothera Point, Adelaide Island; ASPA 132, Potter Peninsula, King George Island (Isla 25 de Mayo), South Shetland Islands; ASPA 133, Harmony Point, Nelson Island, South Shetland Islands; ASPA 134, Cierva Point and offshore islands, Danco Coast, Antarctic Peninsula; ASPA 139, Biscoe Point, Anvers Island, Palmer Archipelago; ASPA 140, Parts of Deception Island, South Shetland Islands; ASPA 144, Chile Bay (Discovery Bay), Greenwich Island, South Shetland Islands; ASPA 145, Port Foster, Deception Island, South Shetland Islands; ASPA 146, South Bay, Doumer Island, Palmer Archipelago; ASPA 148, Mount Flora, Hope Bay, Antarctic Peninsula; ASPA 149, Cape Shirreff and San Telmo Island, Livingston Island, South Shetland Islands; ASPA 150, Ardley Island, Maxwell Bay, King George Island (25 de Mayo); ASPA 151, Lions Rump, King George Island, South Shetland Islands; ASPA 152, Western Bransfield Strait; and ASPA 153, Eastern Dallmann Bay.

Dates of Permitted Activities

September 1, 2023-August 31, 2028.

Permit Application: 2024-002

2. Applicant: Dr. Heather Lynch, Stony Brook University, IACS 163, Stony Brook, NY 11794

Activity for Which Permit Is Requested

Harmful Interference, Enter Antarctic Specially Protected Areas. The applicant would survey chinstrap penguin (Pygoscelis antarctica) colonies in the South Shetland Islands including multiple sites on Low Island. The outcomes of the surveys would be useful in determining population abundance and distribution of chinstrap penguins, important consumers of Antarctic krill. Surveys would be completed using direct manual counts (on foot) and by operating small, remotely piloted aircraft systems (RPAS) over colonies. RPAS would be operated by experienced pilots at altitudes of at least 30 meters above wildlife. Although no significant disturbance is expected, both manual counts and RPAS overflights have the potential to disturb chinstrap penguins as well as Adelie penguins (Pygoscelis adeliae), Gentoo penguins (Pygoscelis papua), the Southern giant petrel (Macronectes giganteus), Southern fulmar (Fulmarus glacialoides), Cape petrel (Deption capense), Antarctic blue-eyed shag (Phalacrocorax atriceps), Antarctic brown skua (Catharacta antarctica), South polar skua (Catharacta maccormicki), Kelp gull (Larus dominicanus), and the Antarctic tern (Sterna vittata) based on the location of the surveys. While conducting visitor site surveys and censuses, the applicant would potentially enter a number of Antarctic Specially Protected Areas (ASPAs) in the Antarctic Peninsula region.

Location

King George Island, South Shetland Islands Robert Island, Livingston Island; Western Antarctic

Peninsula; ASPA 112, Coppermine Peninsula, Robert Island, South Shetland Islands; ASPA 125, Fildes Peninsula, King George Island (25 de Mayo); ASPA 126 Byers Peninsula, Livingston Island, South Shetland Islands; ASPA 128, Western shore of Admiralty Bay, King George Island, South Shetland Islands; ASPA 132, Potter Peninsula, King George Island (Isla 25 de Mayo, South Shetland Islands; ASPA 133, Harmony Point, Nelson Island, South Shetland Islands; ASPA 134, Cierva Point and offshore islands, Danco Coast, Antarctic Peninsula; ASPA 139, Biscoe Point, Anvers Island, Palmer Archipelago; ASPA 150, Ardley Island, Maxwell Bay, King George Island (25 de Mayo); ASPA 151, Lions Rump, King George Island, South Shetland Islands; ASPA 152, Bransfield Strait; ASPA 153, Eastern Dallman Bay; ASPA 171, Narebski Point, Barton Peninsula, King George Island;.

Dates of Permitted Activities

December 1, 2023-February 15, 2024

Kimiko S. Bowens-Knox,
Program Analyst, Office of Polar Programs.

[FR Doc. 2023-16903 Filed 8-7-23; 8:45 am]

BILLING CODE 7555-01-P